DEPARTMENT OF COMMERCE

National Oceanic and Atmospheric Administration

National Estuarine Research Reserve System

AGENCY: Office for Coastal Management, National Ocean Service, National Oceanic and Atmospheric Administration, U.S. Department of Commerce.

ACTION: Notice of public comment period for the Jobos Bay National Estuarine Research Reserve Management Plan revision.

SUMMARY: Notice is hereby given that the Office for Coastal Management, National Ocean Service, National Oceanic and Atmospheric Administration, U.S. Department of Commerce is announcing a 30-day public comment period for the Jobos Bay National Estuarine Research Reserve Management Plan revision. Pursuant to 15 CFR 921.33(c), the revised plan will bring the reserve into compliance. The Jobos Bay Reserve revised plan will replace the plan approved in 2000.

The revised management plan outlines the administrative structure; the research/monitoring, stewardship, education, and training programs and priorities of the reserve; plans for a proposed boundary expansion through future land acquisition; and facility development priorities to support reserve operations.

The Jobos Bay Reserve takes an integrated approach to management, linking research and education, coastal training, and stewardship functions. The Puerto Rico Department of Natural and Environmental Resources (PRDNER) has outlined how it will administer the reserve and its core programs by providing detailed actions that will enable it to accomplish specific goals and objectives. Since the last management plan, the reserve has: developed core programs; expanded monitoring programs within Jobos Bay and its watershed; expanded its dorm, and remodeled the historic train depot and visitor center; conducted training workshops; implemented K-12 education programs; and built new and innovative partnerships with local, Commonwealth, and U.S. organizations and universities.

The total number of acres within the boundary is 2800 acres, which is a slight modification of the original 2883 acres identified in the previous management plan. The revised acreage is a result of survey contracted by the PRDNER to clarify the boundary. The revised management plan will serve as the guiding document for the Jobos Bay Reserve for the next five years. View the Jobos Bay Reserve Management Plan revision at (http://drna.pr.gov/jbnerr/) and provide comments to the Reserve's Manager, Aitza Pabon (apabon@drna.pr.gov).

FOR FURTHER INFORMATION CONTACT: Nina Garfield at (240) 533-0817 or Erica Seiden at (240) 533-0781 of NOAA's Office for Coastal Management, 1305 East-West Highway, N/ORM5, 10th floor, Silver Spring, MD 20910.

Dated: July 27, 2017.
Paul M. Scholz,
Deputy Director, Office for Coastal Management, National Ocean Service, National Oceanic and Atmospheric Administration.

[FR Doc. 2017-17615 Filed 8-18-17; 8:45 am]

BILLING CODE 3510-08-P